DEPARTMENT OF TRANSPORTATION

Federal Aviation Administration

Agency Information Collection Activities: Requests for Comments; Clearance of a New Approval of Information Collection: FAA Customer Service Surveys

AGENCY: Federal Aviation Administration (FAA), DOT.

ACTION: Notice and request for comments.

SUMMARY: In accordance with the Paperwork Reduction Act of 1995, FAA invites public comments about our intention to request the Office of Management and Budget (OMB) approval for a new information collection. This is a new generic clearance for the purpose of gathering customer satisfaction data directly from customers for a wide variety of services.

DATES: Written comments should be submitted by October 9, 2012.

FOR FURTHER INFORMATION CONTACT: Kathy DePaepe at (405) 954-9362, or by email at: Kathy.A.DePaepe@faa.gov.

SUPPLEMENTARY INFORMATION: OMB Control Number: 2120-XXXX.

Title: FAA Customer Service Surveys.

Form Numbers: There are no FAA forms associated with this generic collection.

Type of Review: New generic information collection.

Background: Executive Order 12862, Setting Customer Service Standards, requires that Federal agencies provide the highest quality service to our customers by identifying them and determining what they think about our existing services and products. The surveys covered in the generic clearance will provide the FAA with a means to gather this data directly from our customers.

The information obtained from the surveys will be used to assist in evaluating service delivery and processes. The responses to the surveys will be voluntary and will not involve information that is required by regulations. There will be no direct cost to the respondents other than their time. The FAA plans to provide an electronic means for responding to the majority of the surveys via the World Wide Web.

Respondents: State and local governments, aviation industry organizations, and the general public.

Frequency: Information will be collected on occasion.

Estimated Average Burden per Response: The burden time will vary for each survey. Generally we estimate an average burden of 15 minutes per response.

Estimated Total Annual Burden: We estimate that FAA will survey approximately 55,000 respondents annually during the next three years. Therefore, the estimated total annual burden is 13,750 hours.

ADDRESSES: Send comments to the FAA at the following address: Ms. Kathy DePaepe, Room 126B, Federal Aviation Administration, AES-200, 6500 S. MacArthur Blvd., Oklahoma City, OK 73169.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC on August 1, 2012.
Albert R. Spence,
FAA Assistant Information Collection Clearance Officer, IT Enterprises Business Services Division, AES-200.

[FR Doc. 2012-19450 Filed 8-7-12; 8:45 am]

BILLING CODE 4910-13-P